ENVIRONMENTAL PROTECTION AGENCY

[FRL-8313-6]

Notice of Open Meeting, Environmental Financial Advisory Board (EFAB), Workshop on Environmental Management Systems

AGENCY: Environmental Protection Agency (EPA).

ACTION: Notice.

SUMMARY: The United States Environmental Protection Agency's Environmental Financial Advisory Board will hold an open meeting of its Environmental Management Systems Project Workgroup.

EFAB is chartered with providing analysis and advice to the EPA Administrator and EPA program offices on issues relating to environmental finance. The purpose of this meeting is for the EFAB to gather information and ideas with respect to how professionals in the areas of commercial banking/debt, insurance, and equity investment view and/or use a corporation's environmental information such as Environmental Management Systems (EMSs) in their work. The day will structured to address this issue via a series of panel discussions involving public and private experts in these areas.

The meeting is open to the public with limited seating available on a first come first served basis. Due to building security requirements, all members of the public who wish to attend the meeting must register in advance no later than Wednesday, June 6, 2007.

DATES: June 12, 2007 from 8:30 a.m.-5 p.m.

ADDRESSES: U.S. Environmental Protection Agency, Potomac Yard Conference Center, One Potomac Yard, 2777 S. Crystal Drive, Arlington, VA 22202-3553.

FOR FURTHER INFORMATION CONTACT: To register for the workshop or to obtain further information, contact Vanessa Bowie, Director, Environmental Finance Staff, U.S. EPA, at 202-564-5186 or bowie.vanessa@epa.gov.

For information on access or services for individuals with disabilities, please contact Vanessa Bowie at 202-564-5186 or bowie.vanessa@epa.gov. To request accommodation of disability, please contact Vanessa Bowie, preferably at least 10 days prior to the meeting, to give EPA as much time as possible to process your request.

Dated: May 7, 2007.
Joseph Dillon,
Director, Office of Enterprise Technology and Innovation.

[FR Doc. E7-9120 Filed 5-10-07; 8:45 am]

BILLING CODE 6560-50-P